DEPARTMENT OF THE TREASURY

Community Development Financial Institutions Fund

Proposed Collection; Comment Request

ACTION: Notice and request for comments.

SUMMARY: The Department of Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the Fund) of the Department of the Treasury is soliciting comments concerning an information collection required by the allocation agreement that will be entered into by the Fund and allocatees of the New Markets Tax Credit (NMTC) Program. The specific information collection relates to the section of the allocation agreement that requires an allocatee to provide notice to the Fund of the receipt of a Qualified Equity Investment. The Fund will publish a separate notice seeking public comments regarding other information collections contained in the allocation agreement (e.g., use of QEI proceeds).

DATES: Written comments should be received on or before January 5, 2007 to be assured of consideration.

ADDRESSES: Direct all comments to Yoo Jin Na, Program Manager, Community Development Financial Institutions Fund, U.S. Department of the Treasury, 601 13th Street, NW., Suite 200 South, Washington, DC 20005, Facsimile Number (202) 622-7754.

FOR FURTHER INFORMATION CONTACT: A draft of the information collection may be obtained from the Fund's Web site at http://www.cdfifund.gov. Requests for additional information should be directed to Yoo Jin Na, Program Manager, Community Development Financial Institutions Fund, U.S. Department of the Treasury, 601 13th Street, NW., Suite 200 South, Washington, DC 20005, or by phone to (202) 622-8226.

SUPPLEMENTARY INFORMATION: Title: New Markets Tax Credit (NMTC) Program Allocation Tracking System.

OMB Number: 1559-0024.

Abstract: Title I, subtitle C, section 121 of the Community Renewal Tax Relief Act of 2000 (the Act), as enacted by section 1(a)(7) of the Consolidated Appropriations Act, 2001 (Pub. L. 106-554, December 21, 2000), amended the Internal Revenue Code (IRC) by adding IRC section 45D, New Markets Tax Credit. Pursuant to IRC section 45D, the Department of the Treasury, through the Fund, administers the NMTC Program, which will provide an incentive to investors in the form of tax credits over seven years, which is expected to stimulate the provision of private investment capital that, in turn, will facilitate economic and community development in low-income communities. In order to qualify for an allocation of tax credits under the NMTC Program, an entity must be certified as a qualified community development entity and submit an allocation application to the Fund. Upon receipt of such applications, the Fund will conduct a competitive review process to evaluate applications for the receipt of NMTC allocations. Entities receiving an NMTC allocation must enter into an allocation agreement with the Fund. The allocation agreement contains the terms and conditions, including all reporting requirements, associated with the receipt of a NMTC allocation. The Fund will require each allocatee to use an electronic data collection and submission system, known as the allocation tracking system, to report on the information related to its receipt of a Qualified Equity Investment.

The Fund has developed the allocation tracking system to, among other things: (1) Enhance the allocatee's ability to report to the Fund timely information regarding the issuance of its Qualified Equity Investments; (2) enhance the Treasury Department's ability to monitor the issuance of Qualified Equity Investments to ensure that no allocatee exceeds its allocation authority, and to ensure that Qualified Equity Investments are issued within the timeframes required by the allocation agreement and the NMTC Program regulations; and (3) provide the Treasury Department with basic investor data which may be aggregated and analyzed in connection with NMTC Program evaluation efforts.

Current Actions: Selected allocatees for the NMTC Program.

Type of Review: Renewal.

Affected Public: Business or other for-profit institutions, not-for-profit institutions and State, local and Tribal entities.

Estimated Number of Respondents: 170.

Estimated Annual Time per Respondent: 12 hour.

Estimated Total Annual Burden Hours: 2040 hours.

Requests for Comments: Comments submitted in response to this notice will be summarized and/or included in the request for OMB approval. All comments will become a matter of public record. The specific section of the allocation agreement for which comments are sought is the reporting requirement that allocatees provide notice to the Fund, through the Fund's allocation tracking system, of the receipt of a Qualified Equity Investment. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: Consolidated Appropriations Act of 2001, Public Law 106-554; 31 U.S.C. 321.

Dated: October 31, 2006.
Arthur A. Garcia,
Director, Community Development Financial Institutions Fund.

[FR Doc. E6-18649 Filed 11-3-06; 8:45 am]

BILLING CODE 4810-70-P